DEPARTMENT OF TRANSPORTATION

Federal Aviation Administration

14 CFR Part 71

[Docket No. FAA-15311; Airspace Docket No. 03-ASO-6]

Amendment of Class D, E4, E5 Airspace; Elizabeth City, NC

AGENCY: Federal Aviation Administration (FAA), DOT.

ACTION: Final rule.

SUMMARY: This action amends the Class D, E4 and E5 airspace at Elizabeth City, NC. The name of the airport has changed from Elizabeth City CGAS/Municipal Airport to Elizabeth City CGAS/Regional Airport and the geographic position coordinated of the airport have changed.

EFFECTIVE DATE: 0901 UTC, September 4, 2003.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

History

The name of the airport has changed from Elizabeth City CGAS/Municipal Airport to Elizabeth City CGAS/Regional Airport and the geographic position coordinated of the airport have changed. Therefore, the descriptions of the Class D, E4 and E5 airspace at Elizabeth City, NC, must be amended to reflect these changes. This rule will become effective on the date specified in the EFFECTIVE DATE section. Since this action has no impact on the users of the airspace in the vicinity of the Elizabeth City CGAS/Regional Airport, notice and public procedure under 5 U.S.C. 553(b) are unnecessary. Designations for Class D Airspace, Class E Airspace Areas Designated as an Extension to Class D or Class E Surface Area and Class E Airspace Areas Extending Upward from 700 feet or More Above the Surface of the Earth are published in paragraphs 5000, 6004 and 6005 respectively, of FAA Order 7400.9K, dated August 30, 2002, and effective September 16, 2002, which is incorporated by reference in 14 CFR 71.1. The Class D and E airspace designations listed in this document will be published subsequently in the Order.

The Rule

This amendment to part 71 of the Federal Aviation Regulations (14 CFR part 71) amends Class D, E4 and E5 airspace at Elizabeth City, NC.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9K, Airspace Designations and Reporting Points, dated August 30, 2002, and effective September 16, 2002, is amended as follows:

Paragraph 5000 Class D Airspace.

* * * * *

ASO NC D Elizabeth City, NC [Revised]

Elizabeth City CGAS/Regional Airport, NC

(lat. 36°15′38″ N, long. 76°10′29″ W)

That airspace extending upward from the surface to and including 2,500 feet MSL within a 4.1-mile radius of Elizabeth City CGAS/Regional Airport. This Class D airspace area is effective during the specific dates and times established in advance by a Notice to Airmen. The effective date and time will thereafter be continuously published in the Airport/Facility Directory.

* * * * *

Paragraph 6005 Class E Airspace Areas Designated as an Extension to a Class D Airspace Area

* * * * *

ASO NC E4 Elizabeth City, NC [Revised]

Elizabaeth City CGAS/Regional Airport, NC

(Lat. 36°15′38″ N, long. 76°10′29″ W)

Elizabeth City VOR/DME

(Lat. 36°15′27″ N, long. 76°10′32″ W)

Woodville NDB

(Lat. 36°15′47″ N, long. 76°15′52″ W)

That airspace extending upward from the surface within 1.6 miles each side of Elizabeth City VOR/DME 189° radial, extending from the 4.1-mile radius of Elizabeth City CGAS/Regional Airport to 9.5 miles south of the VOR/DME; within 3.3 miles each side of Elizabeth City VOR/DME 357° radial, extending from the 4.1-mile radius of Elizabeth City CGAS/Regional Airport to 7 miles north of the VOR/DME; within 1.2 miles each side of the 079° bearing from the Woodville NDB, extending from 4.1-mile radius of the airport to the NDB. This Class D airspace area is effective during the specific dates and times established in advance by a Notice of Airmen. The effective date and time will thereafter be continuously published in the Airport/Facility Directory.

* * * * *

Paragraph 6005 Class E Airspace Areas Extending Upward From 700 Feet or More Above the Surface of the Earth

* * * * *

ASO NC ET Elizabaeth City, NC [Revised]

Elizabeth City CGAS/Regional Airport, NC

(Lat. 36°15′38″ N, long. 76°10′29″ W)

Elizabeth City VOR/DME

(Lat. 36°15′27″ N, long. 76°10′32″ W)

That airspace extending upward from 700 feet above the surface within a 7-mile radius of Elizabeth City CGAS/Regional Airport and within 8 miles east and 4 miles west of Elizabeth City VOR/DME 189° radial, extending form the VOR/DME to 9.5 miles south of the VOR/DME.

* * * * *

Issued in College Park, Georgia, on June 9, 2003.
Walter R. Cochran,
Acting Manager, Air Traffic Division, Southern Region.

[FR Doc. 03-15143 Filed 6-13-03; 8:45 am]

BILLING CODE 4910-13-M